DEPARTMENT OF THE INTERIOR

Fish and Wildlife Service

[FWS-R2-ES-2009-N138; 20124-1113-0000-C2]

Endangered and Threatened Wildlife and Plants; Apache Trout (Oncorhynchus apache) Recovery Plan, Second Revision

AGENCY: Fish and Wildlife Service, Interior.

ACTION: Notice of document availability: Revised recovery plan.

SUMMARY: We, the U.S. Fish and Wildlife Service (Service), announce the availability of the Apache Trout (Oncorhynchus apache) Recovery Plan, Second Revision. This species is one of two salmonid species native to Arizona and is currently listed as threatened. It was originally listed as endangered in 1967, but reclassified to threatened in 1975.

ADDRESSES: An electronic copy of the recovery plan can be obtained from our Web site at http://www.fws.gov/southwest/es/Library/. Copies of the recovery plan are also available by request. To obtain a copy, contact Jeremy Voeltz by U.S. mail at U.S. Fish and Wildlife Service, Arizona Fish and Wildlife Conservation Office, P.O. Box 39, Pinetop, AZ 85935; by phone at (928) 338-4288 extension 23; or by e-mail at Jeremy_Voeltz@fws.gov.

FOR FURTHER INFORMATION CONTACT: Jeremy Voeltz (see ADDRESSES).

SUPPLEMENTARY INFORMATION:

Background

The Endangered Species Act of 1973 (Act), as amended (16 U.S.C. 1531 et seq.), requires the development of recovery plans for listed species, unless such a plan would not promote the conservation of a particular species. Recovery plans help guide the recovery effort by describing actions considered necessary for the conservation of the species, and estimating time and costs for implementing the measures needed for recovery. A recovery plan was originally completed for Apache trout in 1979 and updated in 1983, but the recommendations contained in those plans are outdated given the species' current status.

Section 4(f) of the Act requires that we provide public notice and an opportunity for public review and comment during recovery plan development. In fulfillment of this requirement, we made the draft second revision of the recovery plan for Apache trout available for public comment from July 27, 2007, through September 25, 2007 (72 FR 41350). We also conducted peer review at this time. Based on this input, we revised and finalized the recovery plan, and summarized public comments in an appendix.

Apache trout (Oncorhynchus apache) was formerly described as Salmo apache with the common name Arizona trout, but changed after the American Fisheries Society Names Committee showed that the relationship between the cutthroat and rainbow series of trout (including Apache trout) lie with Oncorhynchus rather than Salmo. Apache trout is one of two salmonid species native to Arizona (the other is Gila trout, Oncorhynchus gilae), and is currently listed as threatened (July 16, 1975, 40 FR 29863). Although originally listed as endangered (March 11, 1967, 32 FR 4001), the species was downlisted in 1975 after a reanalysis of its status successful culturing in captivity and greater knowledge of existing populations. Its reclassification to threatened status included a 4(d) rule under the Act, allowing the Arizona Department of Game and Fish to regulate take of the species and to establish sportfishing opportunities (July 16, 1975, 40 FR 29863).

Historically, Apache trout occupied streams and rivers in the upper White, Black, and Little Colorado River drainages in the White Mountains of east-central Arizona. Currently, 28 pure Apache trout populations exist within historical range in Gila, Apache, and Greenlee Counties of Arizona, on lands of the Fort Apache Indian Reservation and Apache-Sitgreaves National Forest.

Watershed alterations related primarily to forestry, livestock grazing, reservoir construction, agriculture, road construction, and mining were identified as causes for reduction of Apache trout habitat. Such alterations damage riparian vegetation and streambank morphology and stability, which increases stream erosion and can ultimately result in higher sediment loads. These effects increase susceptibility to habitat damage from floods, decrease quality and quantity of spawning and rearing areas, alter stream flow volume and temperatures, and alter stream productivity and food supply (e.g., stream dwelling insects). In addition, introductions of non-native trout (i.e., brook and brown trout) have led to competition for resources and predation, or hybridization with rainbow trout or cutthroat trout. Collectively, these factors have varied in intensity, complexity, and damage depending on location, ultimately reducing the total occupied range and the ability of Apache trout to effectively persist at all life stages.

Actions needed to recover the Apache trout include completing required regulatory compliance for stream improvements and fish stocking, implementing appropriate State and tribal fishing regulations, maintaining existing fish barriers, enhancing habitat, removing or minimizing undesirable fishes using piscicides or other feasible means, maintaining existing self-sustaining populations of pure Apache trout, establishing new self-sustaining populations, and monitoring all populations.

The recovery plan provides delisting criteria for the species that will indicate that the species is no longer threatened with extinction throughout all or a significant portion of its range. Apache trout should be considered for removal from the List of Threatened and Endangered Species (delisting) when all of the following criteria have been met:

(1) Habitat sufficient to provide for all life functions at all life stages of 30 self-sustaining discrete populations of pure Apache trout has been established and protected through plans and agreements with responsible land and resource management entities. These plans will address current and future threats to Apache trout habitat.

(2) Thirty discrete populations of pure Apache trout have been established and determined to be self-sustaining. A population will be considered self-sustaining by the presence of multiple age classes and evidence of periodic natural reproduction. A population will be considered established when it is capable of persisting under the range of variation in habitat conditions that occur in the restoration stream.

(3) Appropriate angling regulations are in place to protect Apache trout populations while complying with Federal, State, and tribal regulatory processes.

(4) Agreements are in place with the Service, Arizona Game and Fish Department, and White Mountain Apache Tribe to monitor, prevent, and control disease and/or causative agents, parasites, and pathogens that may threaten Apache trout.

Authority: The authority for this action is section 4(f) of the Endangered Species Act, 16 U.S.C. 1533(f).

Dated: June 30, 2009.
Benjamin N. Tuggle,
Regional Director, Region 2.

[FR Doc. E9-21292 Filed 9-2-09; 8:45 am]

BILLING CODE 4310-55-P